FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than January 20, 2004.

A. Federal Reserve Bank of St. Louis (Randall C. Sumner, Vice President) 411 Locust Street, St. Louis, Missouri 63166-2034:

1. Marantz Group, LP, Springfield, Illinois and its general partner, Tom E. Marantz, Springfield, Illinois; to retain voting shares of Staun Bancorp, Inc., Staunton, Illinois, and thereby indirectly retain voting shares of First Community State Bank, Staunton, Illinois.

2. Joseph Thomas McLane, Poplar Bluff, Missouri; to become a trustee of Midwest Bancorporation Inc. and Affiliates Employee Stock Ownership Plan, Poplar Bluff, Missouri, and thereby indirectly gain control of Midwest Bancorporation, Inc., Poplar Bluff, Missouri, First Midwest Bank of Carter County, Van Buren, Missouri, First Midwest Bank of Dexter, Dexter, Missouri, and First Midwest Bank of Piedmont, Piedmont, Missouri.

Board of Governors of the Federal Reserve System, December 31, 2003.
Robert deV. Frierson,
Deputy Secretary of the Board.

[FR Doc. 04-249 Filed 1-6-04; 8:45 am]

BILLING CODE 6210-01-S